DEPARTMENT OF AGRICULTURE

Cooperative State Research, Education, and Extension Service; Notice of Intent To Establish an Information Collection

AGENCY: Cooperative State Research, Education, and Extension Service, USDA.

ACTION: Notice and request for comments.

SUMMARY: In accordance with the Paperwork Reduction Act of 1995 (Pub. L. 104-13) and Office of Management and Budget (OMB) regulations at 5 CFR Part 1320 (60 FR 44977, August 29, 1995), this notice announces the Cooperative State Research, Education, and Extension Service's (CSREES) intention to request approval to establish an information collection for reviewers of proposals for Federal financial assistance.

DATES: Written comments on this notice must be received by September 27, 2002, to be assured of consideration. Comments received after that date will be considered to the extent practicable.

Additional Information or Comments: Contact Robert C. MacDonald, Grants Policy Program Leader, Information Systems and Technology Management, CSREES, USDA, STOP 2216, 1400 Independence Avenue, SW., Washington, DC 20250-2216. Telephone (202) 205-5967. E-mail: rmacdonald@reeusda.gov.

SUPPLEMENTARY INFORMATION: Title: Questionnaire for Potential Reviewers.

OMB Number: 0524-NEW.

Expiration Date of Current Approval: Not applicable.

Type of Request: Intent to seek approval to establish an information collection for three years.

Abstract: CSREES administers competitive, peer-reviewed agricultural research, education, and extension programs, under which awards of a high-priority nature are made. These programs are authorized pursuant to the authorities contained in the National Agricultural Research, Extension, and Teaching Policy Act of 1977, as amended (7 U.S.C. 3101), the Smith-Lever Act, as amended (7 U.S.C. 341 et seq.), and other legislative authorities.

CSREES receives approximately 6,000 agricultural research, education, and extension proposals per year, of which approximately 2,000 are awarded. The majority of these proposals are subjected to a rigorous peer-review process involving technical experts (e.g., scientists, educators, farmers, engineers, extension specialists) located world-wide. Given the highly technical nature of many of these proposals, the quality of the peer-review greatly depends on the appropriate matching of the proposal subject matter with the technical expertise of the reviewer. As a result, a single database of technical experts is an invaluable tool for CSREES in accomplishing a suitable marriage of proposal content with reviewer expertise.

A single database of technical experts will serve as the central location for CSREES to determine which individuals would be most suitable to review proposals and to seek the individuals participation in the peer-review process. It will also enable CSREES to consider the characteristics of a possible peer-review panel. CSREES strives to have balanced panels of discipline, geography, institutional affiliation, rank, and women and minorities.

To populate and update the database with accurate information, CSREES is seeking clearance to conduct an annual survey. The survey will be in the form of a questionnaire sent to individuals who have the technical expertise as determined through their professional affiliation or some other means. The survey will be sent via e-mail, hard copy, or other appropriate mechanism. The survey will request the individual provide/update data including geographical and expertise information and their willingness to serve as a CSREES peer reviewer.

The database will be the source of information for CSREES to arrange the review of proposals by qualified personnel. The results of the review process extend into the CSREES award process. Therefore, the information collection will serve as an integral part of the CSREES peer-review and award process. The following information will be collected:

Form CSREES-New—Questionnaire for Potential Reviewers: Will be used to update/provide data such as geographical and expertise information, and willingness to review proposals submitted to CSREES.

Estimate of Burden: Public reporting burden for this collection of information is estimated to average ten (10) minutes per response.

Respondents: Individuals.

Estimated Number of Responses per Form: 75,000.

Estimated Total Annual Burden on Respondents: 12,500 hours.

Frequency of Responses: Annually.

Copies of this information collection can be obtained from Robert C. MacDonald, Grants Policy Program Leader, Information Systems and Technology Management, CSREES, USDA, STOP 2216, 1400 Independence Avenue, SW., Washington, DC 20250-2216. Telephone (202) 205-5967. E-mail: rmacdonald@reeusda.gov.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

Done at Washington, DC, this 16th day of July, 2002.
Joseph J. Jen,
Under Secretary, Research, Education, and Economics.

[FR Doc. 02-18648 Filed 7-23-02; 8:45 am]

BILLING CODE 3410-22-P